DEPARTMENT OF EDUCATION

Authorization of Subgrants for the Congressionally Funded Community Projects for Fiscal Year 2024

AGENCY: Office of Elementary and Secondary Education and Office of Postsecondary Education, Department of Education.

ACTION: Notice.

SUMMARY: Pursuant to the Education Department General Administrative Regulations, the Department of Education (Department) authorizes grantees receiving awards under the Congressionally Funded Community Projects (CFCP) (Assistance Listing Numbers 84.116Z, 84.215K) to make subgrants, subject to the limitations described in this notice.

DATES: This authorization is effective April 30, 2024.

FOR FURTHER INFORMATION CONTACT: For K-12 Earmarks: Erin Shackel, U.S. Department of Education, 400 Maryland Avenue SW, 4th Floor, Washington, DC 20202. Telephone: (202) 453-6423. Email: k12earmarks@ed.gov.

For Higher Education Earmarks: Candace Lee, U.S. Department of Education, 400 Maryland Avenue SW, 5th Floor, Washington, DC 20202. Telephone: (202) 453-5787. Email: CongressionallyDirectedGrants-OPE@ed.gov.

If you are deaf, hard of hearing, or have a speech disability and wish to access telecommunications relay services, please dial 7-1-1.

SUPPLEMENTARY INFORMATION: Purpose of Program: Title III of Division D of the Further Consolidated Appropriations Act, 2024 authorizes funding for CFCP. The funds will support identified organizations throughout the country to conduct community project activities. The list of identified organizations may be found in Book II of the March 22, 2024 issue of the Congressional Record of the House of Representatives.

Subgrant Authorization: The Department's regulations in 34 CFR 75.708(a) prohibit subgranting, in the absence of statutory authority, unless authorized by a notice in the Federal Register. The Department has determined that to effectively conduct some of the Congressionally Funded Community Projects and meet the purposes of the program, subgrants may be appropriate and necessary. Accordingly, through this notice, we authorize the fiscal year 2024 CFCP grantees to make subgrants on the terms outlined in this notice.

Under 34 CFR 75.708(b), if the grantee uses this subgranting authority, the grantee has the authority to award subgrants only to eligible entities, and the subgrants must be used only to directly carry out project activities described in the grantee's approved application and be consistent with the purpose of the program, which is described in the Further Consolidated Appropriations Act, 2024. CFCP grantees may make subgrants to the following eligible entities: a local educational agency, an educational service agency, an institution of higher education, or a nonprofit organization as defined in 34 CFR 77.1.

Further, under 34 CFR 75.708(d), grantees must ensure that (1) subgrants are awarded on the basis of the approved budget that is consistent with the grantee's approved application and all applicable Federal statutory, regulatory, and other requirements; (2) every subgrant includes all conditions required by Federal statutes and Executive orders and their implementing regulations; and (3) subgrantees are aware of the requirements of Federal statutes and regulations, including the Federal anti-discrimination laws listed in 34 CFR 75.500, enforced by the Department. Additionally, as is true with any expenditures incurred under the Department's grant programs, CFCP expenditures must satisfy the Federal cost principles in 2 CFR part 200, subpart E. Therefore, any subgrant and subgrantee expenditures must comply with the Federal cost principles, and grantees, as pass-through entities, must comply with the procedures for making subawards described in 2 CFR 200.332.

Note: This notice does not solicit applications.

Program Authority: Title III of Division D of the Further Consolidated Appropriations Act, 2024 (Pub. L. 118-47).

Accessible Format: On request to one of the program contact persons listed under FOR FURTHER INFORMATION CONTACT, individuals with disabilities can obtain this document in an accessible format. The Department will provide the requestor with an accessible format that may include Rich Text Format (RTF) or text format (txt), a thumb drive, an MP3 file, braille, large print, audiotape, or compact disc, or other accessible format.

Electronic Access to This Document: The official version of this document is the document published in the Federal Register. You may access the official edition of the Federal Register and the Code of Federal Regulations at www.govinfo.gov. At this site you can view this document, as well as all other documents of this Department published in the Federal Register, in text or Adobe Portable Document Format (PDF). To use PDF, you must have Adobe Acrobat Reader, which is available free on Adobe's website.

You may also access documents of the Department published in the Federal Register by using the article search feature at www.federalregister.gov. Specifically, through the advanced search feature at this site, you can limit your search to documents published by the Department.

Adam Schott,
Principal Deputy Assistant Secretary, Delegated the Authority to Perform the Functions and Duties of the Assistant Secretary, Office of Elementary and Secondary Education.
Nasser H. Paydar,
Assistant Secretary for Postsecondary Education.

[FR Doc. 2024-09211 Filed 4-29-24; 8:45 am]

BILLING CODE 4000-01-P